DEPARTMENT OF COMMERCE

Foreign-Trade Zones Board

T-1-2008

Foreign-Trade Zone 79 - Tampa, FL, Application for Temporary/Interim Manufacturing Authority, Tampa Bay Shipbuilding and Repair Company (Shipbuilding), Notice of Approval

On April 8, 2008, an application was filed by the Executive Secretary of the Foreign-Trade Zones (FTZ) Board submitted by the City of Tampa, grantee of FTZ 79, requesting temporary/interim manufacturing (T/IM) authority, on behalf of Tampa Bay Shipbuilding and Repair Company, to construct and repair cruise ships and ferries (HTSUS 8901.90), double-hulled liquid barges and articulating tug barges (HTSUS 8901.20), fishing boats (8902.00), tug boats (8904.00), dredgers (8905.10), offshore production platforms (8905.20), and floating docks (8905.90) under FTZ procedures within FTZ 79 Site 5 in Tampa, Florida.

The application has been processed in accordance with T/IM procedures, as authorized by FTZ Board Orders 1347 (69 FR 52857, 8-30-2004) and 1480 (71 FR 55422, 9-22-2006), including notice in the Federal Register inviting public comment (72 FR 62429, 11-5-2007). The FTZ staff examiner reviewed the application and determined that it meets the criteria for approval under T/IM procedures. The foreign-origin components approved for this activity are: anchor chain (7315.81), aluminum beams (7610.90), flexible tubing (8307.10), diesel engines (8408.10) and parts (8409.91, 8409.99), pumps (8413.11), turbochargers (8414.59), heat exchange/cooling units (8419.50), centrifuges (8421.19), filters (8421.23, 8421.29, 8421.31), fire suppression equipment (8424.20, 9032.89), rudders (8479.89), bow thrusters (8501.53), valves (8481.10, 8481.20, 8481.30, 8481.40, 8481.80), stern tubes (8483.30), reduction gears (8483.40), transmission shaft grounding systems and seals (8483.90), generators (8501.63) and parts (8503.00), transformers (8504.34), speed drive controllers (8504.40), overfill alarms (8531.90), ACCU automated/steering systems (8537.10), generator sets (8502.39), and liquid flow measurement instruments (9026.10) (duty rates: free - 5.7%).

Pursuant to the authority delegated to the FTZ Board Executive Secretary in the above-referenced Board Orders, the application is approved, effective this date, until May 29, 2010, subject to the FTZ Act and the Board's regulations, including Section 400.28.

Dated: May 29, 2008.
Pierre V. Duy,
Acting Executive Secretary.

[FR Doc. E8-12484 Filed 6-3-08; 8:45 am]

BILLING CODE 3510-DS-S